DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioners arguments in favor of relief.

Little Kanawah River Rail

[Docket Number FRA-2001-9717]

The Little Kanawha River Rail (LKRR) located at 400 Buckeye Street, Parkersburg, West Virginia 26101, seeks a waiver of compliance for one locomotive, specifically, one 1955 SW-1200 GM Electro-Motive Division model, from certain provisions of the Safety Glazing Standards, 49 CFR 223.11 (Requirements for existing locomotives). The current glazing installed in the locomotive has no identifying marks. The LKRR states that they operate on 1¾ miles of level track at speeds not exceeding 10 miles per hour as a yard type system. The LKRR interchanges directly with CSXT and is a shortline operation which moves cars only for loading and unloading of CSX railcars.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2001-9717) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on February 14, 2002.
Grady C. Cothen, Jr.,
Deputy Associate Administrator, for Safety Standards and Program Development.

[FR Doc. 02-4195 Filed 2-20-02; 8:45 am]

BILLING CODE 4910-06-P